DEPARTMENT OF HOMELAND SECURITY

Coast Guard

33 CFR Part 117

[Docket No. USCG-2011-0972]

Drawbridge Operation Regulation; Nanticoke, Seaford, DE

AGENCY: Coast Guard, DHS.

ACTION: Notice of temporary deviation from regulations.

SUMMARY: The Commander, Fifth Coast Guard District, has issued a temporary deviation from the regulation governing the operation of the SR 13 Bridge across the Nanticoke River, mile 39.6, at Seaford, DE. The deviation is necessary to accommodate the cleaning and painting of the bridge. This deviation allows the bridge to remain in the closed position throughout the month of November to facilitate the maintenance work.

DATES: This deviation is effective from 12:01 a.m. on November 1, 2011 to 11:59 on November 30, 2011.

ADDRESSES: Documents mentioned in this preamble as being available in the docket are part of docket USCG-2011-0972 and are available online by going to http://www.regulations.gov, inserting USCG-2011-0972 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Management Specialist, Coast Guard; telephone 757-398-6629, e-mail Lindsey.R.Middleton@uscg.mil. If you have questions on viewing the docket, call Renee V. Wright, Program Manager, Docket Operations, telephone 202-366-9826.

SUPPLEMENTARY INFORMATION: Marinis Bros. Inc., on behalf of Delaware Department of Transportation (DelDOT), has requested a temporary deviation from the current operating regulation of the SR 13 Bridge across the Nanticoke River, mile 39.6, at Seaford, DE. The requested deviation is to accommodate painting and cleaning of the bridge. The vertical clearance of this single-leaf bascule bridge is three feet at mean high water (MHW) in the closed position and unlimited in the open position. During this deviation period, the vertical clearance will be limited to one foot at MHW due to the scaffolding that will be used for the maintenance of the bridge. The bridge will remain in the closed position for the entire month. In critical situations the bridge will be able to open if at least 24 hours of notice is given. There are no alternate routes available to vessels.

The current operating schedule for the bridge is set out in 33 CFR 117.243(b). According to that schedule, during the month of November the bridge shall open on signal, except that from 6 p.m. to 8 a.m. Monday through Friday and 3:30 p.m. through 7:30 a.m. Saturday and Sunday, if at least four hours notice is given.

Logs from November 2010 have shown that there were 20 openings for the entire month. Sixteen of those openings were on November 13th and 14th. The openings were due to a Bass Fishing Tournament; however, the tournament is not scheduled for this year minimizing the amount of anticipated openings. The majority of vessel traffic utilizing this waterway is recreational boaters. There is one mariner that requests most of the bridge openings throughout the winter months. Marinis Bros., Inc. has coordinated with this mariner. DelDOT has coordinated with the town concerning the month long bridge closure as well. The Coast Guard will inform all other users of the waterway through our Local and Broadcast Notices to Mariners so that mariners can arrange their transits to minimize any impact caused by the temporary deviation. The Coast Guard will also require the bridge owner to post signs on either side of the bridge notifying mariners of the temporary regulation change.

In accordance with 33 CFR 117.35(e), the drawbridge must return to its regular operating schedule immediately at the end of the designated time period. This deviation from the operating regulations is authorized under 33 CFR 117.35.

Dated: October 12, 2011.
Waverly W. Gregory, Jr.,
Bridge Program Manager, Fifth Coast Guard District.

[FR Doc. 2011-27722 Filed 10-25-11; 8:45 am]

BILLING CODE 9110-04-P